DEPARTMENT OF ENERGY

Federal Energy Regulatory Commission

Combined Notice of Filings #1

Take notice that the Commission received the following electric corporate filings:

Docket Numbers: EC14-114-000.

Applicants: Gila River Power LLC, Union Power Partners, L.P., Entegra Power Services LLC, Wayzata Investment Partners LLC, Luminus Management, LLC.

Description: Errata to July 18, 2014 Joint Application for Authorization Under Section 203 of Gila River Power LLC, et al.

Filed Date: 7/21/14.

Accession Number: 20140721-5157.

Comments Due: 5 p.m. ET 8/8/14.

Take notice that the Commission received the following electric rate filings:

Docket Numbers: ER10-2253-011; ER10-3319-014.

Applicants: Astoria Energy LLC, Astoria Energy II LLC.

Description: Supplement to June 30, 2014 Order No. 697 Triennial Compliance Filing of Astoria Energy LLC and Astoria Energy II, LLC.

Filed Date: 7/16/14.

Accession Number: 20140716-5185.

Comments Due: 5 p.m. ET 8/6/14.

Docket Numbers: ER13-2452-002.

Applicants: California Independent System Operator Corporation.

Description: 2014-07-21_RIMPR1_SecondCompliance to be effective N/A.

Filed Date: 7/21/14.

Accession Number: 20140721-5112.

Comments Due: 5 p.m. ET 8/11/14.

Docket Numbers: ER14-486-002.

Applicants: UNS Electric, Inc.

Description: UNSE Order No. 784 Correction Filing 2 to be effective 1/27/2014.

Filed Date: 7/22/14.

Accession Number: 20140722-5074.

Comments Due: 5 p.m. ET 8/12/14.

Docket Numbers: ER14-2455-001.

Applicants: Hawks Nest Hydro LLC.

Description: Hawks Nest Hydro Amended Filing to be effective 7/23/2014.

Filed Date: 7/22/14.

Accession Number: 20140722-5051.

Comments Due: 5 p.m. ET 8/12/14.

Docket Numbers: ER14-2471-000.

Applicants: PJM Interconnection, L.L.C.

Description: Revisions to OATT Att K Sec 3.2 and OA Sch 1 Sec 3.2—Shoulder Hour Opp Cost to be effective 9/22/2014.

Filed Date: 7/21/14.

Accession Number: 20140721-5111.

Comments Due: 5 p.m. ET 8/11/14.

Docket Numbers: ER14-2472-000.

Applicants: Agera Energy LLC.

Description: Baseline new to be effective 7/23/2014.

Filed Date: 7/21/14.

Accession Number: 20140721-5122.

Comments Due: 5 p.m. ET 8/11/14.

Docket Numbers: ER14-2473-000.

Applicants: Duke Energy Carolinas, LLC.

Description: Cancellation of Rate Schedule 342 Cargill-DEC to be effective 9/22/2014.

Filed Date: 7/22/14.

Accession Number: 20140722-5025.

Comments Due: 5 p.m. ET 8/12/14.

Docket Numbers: ER14-2474-000.

Applicants: CleanLight Power + Energy, LLC, Gloucester Solar Farm, LLC.

Description: Request for Waiver of CleanLight Power + Energy, LLC, et. al.

Filed Date: 7/22/14.

Accession Number: 20140722-5060.

Comments Due: 5 p.m. ET 8/12/14.

Docket Numbers: ER14-2475-000.

Applicants: AEP Texas North Company.

Description: CSW Operating Companies MBR Concurrence ER14-869 to be effective 7/25/2014.

Filed Date: 7/22/14.

Accession Number: 20140722-5075.

Comments Due: 5 p.m. ET 8/12/14.

Docket Numbers: ER14-2476-000.

Applicants: Public Service Company of Oklahoma.

Description: CSW Operating Companies MBR Concurrence ER14-869 to be effective 7/25/2014.

Filed Date: 7/22/14.

Accession Number: 20140722-5076.

Comments Due: 5 p.m. ET 8/12/14.

Docket Numbers: ER14-2477-000.

Applicants: Southwestern Electric Power Company.

Description: CSW Operating Companies MBR Concurrence ER14-869 to be effective 7/25/2014.

Filed Date: 7/22/14.

Accession Number: 20140722-5077.

Comments Due: 5 p.m. ET 8/12/14.

Take notice that the Commission received the following electric securities filings:

Docket Numbers: ES14-45-000.

Applicants: Northern Pass Transmission LLC.

Description: Amendment to July 2, 2014 Application for Authority to Issue Debt Securities of Northern Pass Transmission LLC.

Filed Date: 7/22/14.

Accession Number: 20140722-5018.

Comments Due: 5 p.m. ET 8/1/14.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 22, 2014.
Nathaniel J. Davis, Sr.,
Deputy Secretary.

.

[FR Doc. 2014-17811 Filed 7-28-14; 8:45 am].

BILLING CODE 6717-01-P